DEPARTMENT OF AGRICULTURE

Animal and Plant Health Inspection Service

7 CFR Part 360

[Docket No. 02-067-2]

Noxious Weeds; Cultivars of Kikuyu Grass

AGENCY: Animal and Plant Health Inspection Service, USDA.

ACTION: Advance notice of proposed rulemaking; reopening of comment period.

SUMMARY: We are reopening the comment period for our advance notice of proposed rulemaking in which we solicited data regarding research or studies on cultivars of kikuyu grass, especially data concerning potential invasiveness in the United States of cultivars of kikuyu grass. This action will allow interested persons additional time to prepare and submit comments.

DATES: We will consider all comments that we receive regarding Docket No. 02-067-1 on or before May 16, 2003.

ADDRESSES: You may submit comments by postal mail/commercial delivery or electronically. If you use postal mail/commercial delivery, please send four copies of your comment (an original and three copies) to: Docket No. 02-067-1, Regulatory Analysis and Development, PPD, APHIS, Station 3C71, 4700 River Road Unit 118, Riverdale, MD 20737-1238. Please state that your comment refers to Docket No. 02-067-1. If you wish to submit electronic comments, please visit the Internet Web site http://comments.aphis.usda.gov and follow the instructions there.

You may read any comments that we receive on this docket in our reading room, or online at http://comments.aphis.usda.gov. Electronic comments will be posted to this Web site immediately after receipt, and postal mail/commercial delivery comments will be scanned and posted to the Web site within a few days after receipt. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Michael A. Lidsky, Esq., Assistant Director, Regulatory Coordination, PPQ, APHIS, 4700 River Road Unit 141, Riverdale, MD 20737-1236; (301) 734-5762.

SUPPLEMENTARY INFORMATION:

Background

On February 10, 2003, we published in the Federal Register (68 FR 6653-6655, Docket No. 02-067-1) an advance notice of proposed rulemaking in which we announced that we are considering whether we should remove Whittet and AZ-1, two cultivars of kikuyu grass, from the list of noxious weeds. In that document, we solicited data regarding research or studies on cultivars of kikuyu grass, especially data concerning potential invasiveness in the United States of cultivars of kikuyu grass, in order to help us make a scientifically sound decision.

Comments on the advance notice of proposed rulemaking were required to be received on or before April 11, 2003. We are reopening the comment period for Docket No. 02-067-1 for an additional 14 days from the date of this notice. This action will allow interested persons additional time to prepare and submit comments. We will also consider all comments received between April 12, 2003 (the day after the close of the original comment period) and the date of this notice.

Authority: 7 U.S.C. 7711-7714, 7718, 7731, 7751, and 7754; 7 CFR 2.22, 2.80, and 371.3.

Done in Washington, DC, this 29th day of April 2003.
Peter Fernandez,
Acting Administrator, Animal and Plant Health Inspection Service.

[FR Doc. 03-10875 Filed 5-1-03; 8:45 am]

BILLING CODE 3410-34-P